DEPARTMENT OF THE INTERIOR

Bureau of Land Management

[AK-910-06-1739-NSSI]

Notice of Public Meeting, North Slope Science Initiative, Science Technical Group

AGENCY: Bureau of Land Management, Alaska State Office, North Slope Science Initiative, Interior.

ACTION: Notice of public meeting.

SUMMARY: In accordance with the Federal Land Policy and Management Act (FLPMA) and the Federal Advisory Committee Act of 1972 (FACA), the U.S. Department of the Interior, North Slope Science Initiative (NSSI) Science Technical Group (STG) will meet as indicated below.

DATES: The meeting will be held October 11-12, 2006, in Fairbanks, Alaska. The meeting will be held at the Bureau of Land Management, Fairbanks District Office, 1150 University Avenue, Fairbanks, Alaska 99709, in the Kobuk Conference Room. On October 11, the meeting will begin at 10 a.m. The public comment period starts at 3 p.m. On October 12, the meeting will begin at 8:30 a.m. at the same location.

FOR FURTHER INFORMATION CONTACT: Ken Taylor, Executive Director, North Slope Science Initiative (910), Bureau of Land Management, 222 W. Seventh Avenue, #13, Anchorage, Alaska 99513. Telephone (907) 271-3131, or e-mail kenton_taylor@ak.blm.gov.

SUPPLEMENTARY INFORMATION: The North Slope Science Initiative, Science Technical Group provides advice and recommendations to the North Slope Science Oversight Group (OG) regarding priority needs for management decisions across the North Slope of Alaska. These priority needs may include recommendations on inventory, monitoring and research activities that lead to informed land management decisions. At this meeting, topics we plan to discuss include:

• Onshore oil and gas development monitoring requirements.

• Offshore oil and gas development monitoring requirements.

• Offshore seismic monitoring requirements.

• Expectations of OG and STG members.

• Other topics the OG or STG may rise.

All meetings are open to the public. The public may present written comments to the Science Technical Group. Each formal meeting will also have time allotted for hearing public comments. Depending on the number of persons wishing to comment and time available, the time for individual oral comments may be limited. Individuals who plan to attend and need special assistance, such as sign language interpretation, transportation, or other reasonable accommodations, should contact the North Slope Science Initiative staff.

Dated: August 25, 2006.
Julia Dougan,
Acting Alaska State Director.

[FR Doc. 06-7370 Filed 8-31-06; 8:45 am]

BILLING CODE 4310-JA-M